DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is May 16, 2025. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8:00 a.m.-5:00 p.m. (central time), Monday through Friday.

SUPPLEMENTARY INFORMATION: The environmental review, consultation, and other actions required by applicable Federal environmental laws for these projects are being, or have been, carried out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. US 287 From west of Boyce Road to east of Cooke Road, Ellis County, Texas. This project will construct new frontage roads that will run parallel to the main lanes of US 287. The main lanes will be reconstructed and shifted to accommodate the newly constructed frontage roads. The proposed US 287 will be a divided four-lane highway (two lanes in each direction) with two-lane frontage roads that run parallel to the main lanes (two lanes in each direction). The US 287 main lanes will consist of 12-foot-wide travel lanes with an adjacent 10-foot-wide outside shoulder and an adjacent 4-foot-wide inside shoulder. A 40-foot-wide vegetated median will separate the northbound and southbound US 287 main lanes. This project is approximately 3.9 miles in length. The actions by TxDOT and Federal agencies and the laws under which such actions were taken are described in the Categorical Exclusion Determination issued on September 21, 2024, and other documents in the TxDOT project file. The Categorical Exclusion Determination and other documents in the TxDOT project file are available by contacting the TxDOT Dallas District Office at 4777 E Highway 80, Mesquite, TX 75150; telephone: (214) 320-4480.

2. RM 2871 from IH 30 to US 377, Tarrant County, Texas. The proposed improvements to RM 2871 include reconstructing and widening the existing roadway to a four-lane divided urban roadway with a curbed median, from US 377 in the City of Benbrook north to IH 30 in the City of Fort Worth, for approximately 5.08 miles. Additional improvements include an overpass bridge on RM 2871 over the Union Pacific Railroad and Aledo Road; realignment of Veale Ranch Parkway and Chaparral Pass; left- and right-turn bays and intersection improvements throughout the corridor; and bicycle and pedestrian accommodations on both sides of RM 2871. The actions by TxDOT and Federal agencies and the laws under which such actions were taken are described in the Categorical Exclusion Determination issued on October 11, 2024, and other documents in the TxDOT project file. The Categorical Exclusion Determination and other documents in the TxDOT project file are available by contacting the TxDOT Fort Worth District Office at 2501 S W Loop 820 Fort Worth, TX 76133; telephone: (817) 370-6744.

3. Shiloh Road from West Kingsley Road to West Miller Road, Dallas County, Texas. The project will reconstruct and widen Shiloh Road to a six-lane divided roadway (three lanes in each direction) with 11-foot-wide travel lanes and a raised concrete median that varies from three- to 13-feet wide and contains a dedicated ten-foot-wide left-turn lane for intersecting streets in both directions. There will be a 0.5-foot-wide concrete barrier adjacent to both inside and outside travel lanes that will separate the travel lanes from the raised median and the sidewalk/buffer areas. This project is approximately 1.08 miles in length. The actions by TxDOT and Federal agencies and the laws under which such actions were taken are described in the Categorical Exclusion Determination issued on October 22, 2024, and other documents in the TxDOT project file. The Categorical Exclusion Determination and other documents in the TxDOT project file are available by contacting the TxDOT Dallas District Office at 4777 E Highway 80, Mesquite, TX 75150; telephone: (214) 320-4480.

4. IH 20 from FM 450 to SH 43, Harrison County, Texas. The project will reconstruct and widen IH 20 from four lanes to six lanes with one-way frontage roads. The proposed roadway typical section will consist of three 12-foot-wide travel lanes in each direction with 10-foot-wide inside and outside shoulders. One-way frontage roads are proposed between FM 450 and FM 3251 north and south of the main lanes. The new frontage roads will consist of two 12-foot-wide travel lanes with an eight-foot-wide outside shoulder and a four-foot-wide inside shoulder. Existing grade-separated interchanges will be improved at FM 450, Galilee Road, FM 968, FM 3251, Cooks Road, and SH 43. Interchange ramps will be widened to 14 feet with a four-foot-wide inside shoulder and a 14-foot-wide outside shoulder, with the exception of ramps at the FM 450 interchange that will be widened to 14 feet with a four-foot-wide inside shoulder and an eight-foot-wide outside shoulder. The project length is approximately 10 miles. The actions by TxDOT and Federal agencies and the laws under which such actions were taken are described in the Categorical Exclusion Determination issued on October 25, 2024, and other documents in the TxDOT project file. The Categorical Exclusion Determination and other documents in the TxDOT project file are available by contacting the TxDOT Atlanta District Office at 701 E Main Street, Atlanta, TX 75551; telephone: (903) 796-2851.

5. US 287 from US 67 to BUS 287, Ellis County, Texas. The project will construct new continuous frontage roads that will run parallel to the main lanes of US 287. The main lanes will be reconstructed and shifted to accommodate the newly constructed frontage roads. The proposed US 287 will be a divided four-lane highway (two lanes in each direction) with two-lane frontage roads that run parallel to the main lanes (two-lanes in each direction). The US 287 main lanes will consist of 12-foot-wide travel lanes with an adjacent 10-foot-wide outside shoulder and an adjacent four-foot-wide inside shoulder. A vegetated median that varies from 40-68 feet wide will separate the northbound and southbound US 287 main lanes. The proposed frontage roads to be constructed parallel to the main lanes consist of 12-foot-wide travel lane with two-foot-wide inside and outside shoulders adjacent to the travel lanes. This project is approximately 8.3 miles in length. The actions by TxDOT and Federal agencies and the laws under which such actions were taken are described in the Categorical Exclusion Determination issued on October 31, 2024, and other documents in the TxDOT project file. The Categorical Exclusion Determination and other documents in the TxDOT project file are available by contacting the TxDOT Dallas District Office at 4777 E Highway 80, Mesquite, TX 75150; telephone: (214) 320-4480.

6. US 59/US 259 North Nacogdoches (Future I-69) from Stallings Drive/LP 224 to 1.3 mile north of US 259, Nacogdoches County, Texas. The project will bring US 59 and the US 59/US 259 interchange up to current interstate standards by converting it to a controlled access roadway and reconfiguring the interchange. The project will extend for a total of 3.8 miles along US 59 and will include the construction of concrete barrier-divided main lanes along US 59 that consist of four 12-foot-wide travel lanes, two in each direction, 10-foot-wide inside shoulders, and 12-foot-wide outside shoulders. Northbound and southbound US 59 frontage road construction will include two 12-foot-wide travel lanes with a four-foot inside shoulder and a 10-foot-wide outside shoulder. A 10-foot shared use path will also be constructed along the proposed US 59 frontage roads and a 10-foot-wide shared use path and six-foot sidewalk will be constructed along US 259. The project will include reconfiguring the US 59/US 259 interchange to provide new flyover bridges for northbound US 59 and southbound US 259 and a location for truck parking between Stallings Drive/LP 224 and FM 343. The actions by TxDOT and Federal agencies and the laws under which such actions were taken are described in the Categorical Exclusion Determination issued on November 19, 2024, and other documents in the TxDOT project file. The Categorical Exclusion Determination and other documents in the TxDOT project file are available by contacting the TxDOT Lufkin District Office at 1805 N. Timberland Drive, Lufkin, TX 75901; telephone: (936) 634-4433.

7. SH 29 from Haven Lane to Patriot Way, Williamson County, Texas. The project will widen SH 29 from a two-lane to a four-lane roadway with a raised median. A shared use path will be provided on the southern side of SH 29. The project is 2.83 miles in length. The actions by TxDOT and Federal agencies and the laws under which such actions were taken are described in the Categorical Exclusion Determination issued on November 20, 2024, and other documents in the TxDOT project file. The Categorical Exclusion Determination and other documents in the TxDOT project file are available by contacting the TxDOT Austin District Office at 7901 North I-35, Austin, TX 78753; telephone: (512) 832-7000.

8. FM 1378 from FM 3286 to West Lucas Road, Collin County, Texas. The project will consist of widening to a four-lane divided urban roadway. It includes two travel lanes in each direction (two 11-foot lanes with a two-foot inside shoulder and a five-foot outside shoulder). An approximately 16-foot-wide grassy median will separate the eastbound and westbound lanes and will narrow to approximately 5 to 16 feet where turn lanes are proposed. This project is approximately 1.0 miles in length. The actions by TxDOT and Federal agencies and the laws under which such actions were taken are described in the Categorical Exclusion Determination issued on November 21, 2024, and other documents in the TxDOT project file. The Categorical Exclusion Determination and other documents in the TxDOT project file are available by contacting the TxDOT Dallas District Office at 4777 E Highway 80, Mesquite, TX 75150; telephone: (214) 320-4480.

9. SH 35 from south of North Gordon Street to north of Steele Road, Brazoria County, Texas. This project will construct four elevated SH 35 main lanes in the median and intersection improvements at FM 528 and Wheeler Rd. The project will also reconstruct the existing SH 35 lanes to serve as frontage roads. The length of the project is approximately 1.33 mile. The actions by TxDOT and Federal agencies and the laws under which such actions were taken are described in the Categorical Exclusion Determination issued on November 25, 2024, and other documents in the TxDOT project file. The Categorical Exclusion Determination and other documents in the TxDOT project file are available by contacting the TxDOT Houston District Office at 7600 Washington Avenue, Houston, Texas 77007; telephone: (713) 802-5000.

10. FM 2100 from Huffman-Cleveland Road (North) to SH 99 (Grand Parkway), Harris County, Texas. The 5.6-mile-long project will expand the roadway from two lanes to a four-lane divided highway with a sidewalk on one side and a shared use path on the other. Part of the road will be realigned on new location. The actions by TxDOT and Federal agencies and the laws under which such actions were taken are described in the Final Environmental Assessment (EA), the Finding of No Significant Impact (FONSI) issued on September 13, 2024, and other documents in the TxDOT project file. The EA, FONSI and other documents in the TxDOT project file are available by contacting the TxDOT Houston District Office at 7600 Washington Avenue, Houston, TX 77007; telephone: (713) 802-5000.

11. FM 6 from SH 78 to FM 1777, Collin County, Texas. The project includes reconstruction to an ultimate phase of six 12-foot-wide travel lanes (three lanes in each direction), with an interim phase of four 12-foot-wide lanes (two lanes in each direction). The roadway facility will also include shoulders, dedicated turn lanes, and shared use paths. The shared use paths will be included along both the south and north sides of the roadway alignment. This project is approximately 7.88 miles in length. The actions by TxDOT and Federal agencies and the laws under which such actions were taken are described in the Final Environmental Assessment (EA), Finding of No Significant Impact (FONSI) issued on October 16, 2024, and other documents in the TxDOT project file. The EA, FONSI, and other documents in the TxDOT project file are available by contacting the TxDOT Dallas District Office at 4777 E. Highway 80, Mesquite, TX 75150; telephone: (214) 320-4480.

12. FM 1387 from North Midlothian Parkway to FM 664, Ellis County, Texas. The project will include the expansion of the current two-lane roadway to an interim four-lane roadway (ultimate six-lane roadway). The improvements consist of 11- to 12-foot-wide travel lanes with a 10-foot-wide shared use path in the westbound direction and a 5-foot-wide sidewalk in the eastbound direction with a variable-width, raised median. This project is approximately 5.8 miles in length. The actions by TxDOT and Federal agencies and the laws under which such actions were taken are described in the Final Environmental Assessment (EA), Finding of No Significant Impact (FONSI) issued on November 13, 2024, and other documents in the TxDOT project file. The EA, FONSI, and other documents in the TxDOT project file are available by contacting the TxDOT Dallas District Office at 4777 E. Highway 80, Mesquite, TX 75150; telephone: (214) 320-4480.

13. SL 390/US 59 Relief Route (Future I-369), from 0.7 mile north of US 80 to I-20, Harrison County, Texas. The project will construct a controlled access roadway with two southbound 12-foot main lanes and two northbound 12-foot main lanes separated by a grassy median. One-way frontage roads will be constructed on either side of the proposed roadway and will consist of two 12-foot travel lanes offset from the main lanes by a grassy median. On- and off-ramps will be constructed throughout the length of the proposed roadway. The actions by TxDOT and Federal agencies and the laws under which such actions were taken are described in the Final Environmental Assessment (EA), the Finding of No Significant Impact (FONSI) issued on November 20, 2024, and other documents in the TxDOT project file. The EA, FONSI, and other documents in the TxDOT project file are available by contacting the TxDOT Atlanta District Office at 701 E. Main Street, Atlanta, Texas 75551; telephone: (903) 796-2851.

Authority: 23 U.S.C. 139(l)(1)

Michael T. Leary,
Director, Planning and Program Development, Federal Highway Administration.

[FR Doc. 2024-29756 Filed 12-16-24; 8:45 am]

BILLING CODE 4910-22-P